FEDERAL COMMUNICATIONS COMMISSION

47 CFR Part 73

[DA 06-431; MB Docket No. 04-266, RM-11005; MB Docket No. 04-267, RM-11008; MB Docket No. 04-268, RM-11009; MB Docket No. 04-269, RM-11010; and MB Docket No. 04-270, RM 11012]

Radio Broadcasting Services; Harrisonburg, LA; Mecca, CA; Rosepine, LA; San Joaquin, CA; and Taos, NM

AGENCY: Federal Communications Commission.

ACTION: Final rule.

SUMMARY: This document allots five channels to the communities of Harrisonburg, Louisiana; Mecca, California; Taos, New Mexico; San Joaquin, California; and Rosepine, Louisiana See SUPPLEMENTARY INFORMATION, infra.

DATES: Effective April 10, 2006. The window period for filing applications for these channels will not be opened at this time. Instead, the issue of opening filing windows for these allotments for auction will be addressed by the Commission in a subsequent order.

FOR FURTHER INFORMATION CONTACT: Sharon P. McDonald, Media Bureau, (202) 418-2180.

SUPPLEMENTARY INFORMATION: This is a synopsis of the Commission's Report and Order, MB Docket Nos. 04-266, 04-267, 04-268, 04-269 and 04-270, adopted February 22, 2006, and released February 24, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

The Audio Division, at the request of Charles Crawford, allots Channel 232A at Harrisonburg, Louisiana, as the community's first local aural transmission service. See 69 FR 46474, August 3, 2004. Channel 232A can be allotted to Harrisonburg in compliance with the Commission's minimum distance separation requirements with a site restriction of 4.9 kilometers (3.0 miles) northeast to avoid short-spacings to the licensed sites of Station WEMX(FM), Channel 231C, Kentwood, Louisiana, and Station KSMB(FM), Channel 233C, Lafayette, Louisiana. The coordinates for Channel 232A at Harrisonburg are 31-48-18 North Latitude and 91-47-26 West Longitude.

The Audio Division, at the request of Dana J. Puopolo, allots Channel 274A at Mecca, California, as the community's second local aural transmission service. See 69 FR 46474, August 3, 2004. Channel 274A can be allotted to Mecca in compliance with the Commission's minimum distance separation requirements a city reference. The coordinates for Channel 274A at Mecca are 33-34-18 North Latitude and 116-04-35 West Longitude. Because Mecca is located within 320 kilometers (199 miles) of the U.S.-Mexican border, Mexican concurrence has been obtained.

The Audio Division, at the request of Dana J. Puopolos, allots Channel 288A at Taos, New Mexico, as the community's fifth local aural transmission service. See 69 FR 46474, August 3, 2004. Channel 288A can be allotted to Taos in compliance with the Commission's minimum distance separation requirements with a site restriction of 8.3 kilometers (5.2 miles) northwest to avoid a short-spacing to the proposed allotment site for Channel 287C at Des Moines, New Mexico. The coordinates for Channel 288A at Taos are 36-26-55 North Latitude and 105-39-00 West Longitude

The Audio Division, at the request of Linda A. Davidson, allots Channel 299A at San Joaquin, California, as the community's second local FM transmission service. See 69 FR 46474, August 3, 2004. Channel 299A can be allotted to San Joaquin in compliance with the Commission's minimum distance separation requirements with a site restriction of 2 kilometers (1.2 miles) west to avoid a short-spacing to the licensed site for Station KZOL(FM), Channel 200B1, North Fork, California. The coordinates for Channel 299A at San Joaquin are 36-36-00 North Latitude and 120-12-36 West Longitude.

The Audio Division, at the request of Charles Crawford, allots Channel 281A at Rosepine, Louisiana, as the community's first local aural transmission service. See 69 FR 46474, August 3, 2004. Channel 281A can be allotted to Rosepine in compliance with the Commission's minimum distance separation requirements site restriction of 5.5 kilometers (3.4 miles) west to avoid a short-spacing to the licensed site of Station KJLO-(FM), Channel 281C, Monroe, Louisiana. The coordinates for Channel 281A at Rosepine are 30-55-24 North Latitude and 93-20-24 West Longitude.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under California, is amended by adding Channel 274A at Mecca; and by adding Channel 299A at San Joaquin.

3. Section 73.202(b), the Table of FM Allotments under Louisiana, is amended by adding Harrisonburg, Channel 232A; and by adding Rosepine, Channel 281A.

4. Section 73.202(b), the Table of FM Allotments under New Mexico, is amended by adding Channel 288A at Taos.

Federal Communications Commission.
John A. Karousos,
Assistant Chief, Audio Division, Media Bureau.

[FR Doc. 06-2719 Filed 3-21-06; 8:45 am]

BILLING CODE 6712-01-P